DEPARTMENT OF LABOR

Employment and Training Administration

[TA-W-62,131]

Neilsen Manufacturing Incorporated, Salem, Oregon; Notice of Termination of Investigation

Pursuant to Section 221 of the Trade Act of 1974, as amended, an investigation was initiated on September 12, 2007 in response to a petition filed by a state representative on behalf of workers at Neilsen Manufacturing Incorporated, Salem, Oregon.

The petitioner has requested that the petition be withdrawn. Consequently, further investigation would serve no purpose and the investigation has been terminated. However, all workers of the subject firm are covered by an existing certification, TA-W-58,056, that expires November 8, 2007.

Signed in Washington, DC, this 20th day of September 2007.
Linda G. Poole,
Certifying Officer, Division of Trade Adjustment Assistance.

[FR Doc. E7-19031 Filed 9-26-07; 8:45 am]

BILLING CODE 4510-FN-P